DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) Transport Airplane and Engine (TAE) Subcommittee to discuss TAE issues.

DATES: The meeting is scheduled for Wednesday, June 03, 2015, starting at 9:00 a.m. EST. The public must make arrangements by June 01, 2015, to present oral statements at the meeting.

ADDRESSES: 929 Long Bridge Drive, Arlington, VA 22202.

FOR FURTHER INFORMATION CONTACT: Ralen Gao, Office of Rulemaking, ARM-209, FAA, 800 Independence Avenue SW., Washington, DC 20591, Telephone (202) 267-3168, FAX (202) 267-5075, or email at ralen.gao@faa.gov.

SUPPLEMENTARY INFORMATION: Pursuant to Section 10(a)(2) of the Federal Advisory Committee Act (Pub. L. 92-463; 5 U.S.C. app. 2), notice is given of an ARAC Subcommittee meeting to be held on Wednesday, June 03, 2015.

The agenda for the meeting is as follows:

• FAA Report

• ARAC Report

• Transportation Canada Report

• EASA Report

• Engine Harmonization Working Group Report—Engine Endurance Testing

• Airworthiness Assurance Working Group Report

• Flight Test Harmonization Working Group Report

• Materials Flammability Working Group Report

• Transport Airplane Metallic and Composite Structures Working Group Report

• Any other business

Participation is open to the public, but will be limited to the availability of teleconference lines.

To participate, please contact the person listed in FOR FURTHER INFORMATION by email or phone for the teleconference call-in number and passcode. Please provide the following information: Full legal name, country of citizenship, and name of your industry association, or applicable affiliation. If you are participating as a public citizen, please indicate so. Anyone calling from outside the Arlington, VA, metropolitan area will be responsible for paying long-distance charges.

The public must make arrangements by June 01, 2015, to present oral or written statements at the meeting. Written statements may be presented to the Subcommittee by providing a copy to the person listed in the FOR FURTHER INFORMATION CONTACT section. Copies of the documents to be presented to the Subcommittee may be made available by contacting the person listed in the FOR FURTHER INFORMATION CONTACT section.

If you need assistance or require a reasonable accommodation for the meeting or meeting documents, please contact the person listed in the FOR FURTHER INFORMATION CONTACT section.

Issued in Washington, DC, on May 12, 2015.
Lirio Liu,
Designated Federal Officer.

[FR Doc. 2015-11881 Filed 5-15-15; 8:45 am]

BILLING CODE 4910-13-P